ENVIRONMENTAL PROTECTION AGENCY

[OAR-2005-0017, FRL-7873-5]

Agency Information Collection Activities: Proposed Collection; Comment Request; National Emission Standards for Hazardous Air Pollutants (NESHAPs): Radionuclides, EPA ICR Number 1100.12, OMB Control Number 2060-0191

AGENCY: Environmental Protection Agency.

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on August 25, 2005. Before submitting the ICR to OMB for review and approval, EPA is soliciting comments on specific aspects of the proposed information collection as described below.

DATES: Comments must be submitted on or before April 18, 2005.

ADDRESSES: Submit your comments, referencing docket ID number OAR-2005-0017, to EPA online using EDOCKET (our preferred method), Air and Radiation.Docket@epa.gov, or by mail to: EPA Docket Center, Environmental Protection Agency, Air and Radiation Docket and Information Center, http://www.epa.gov/oar/docket.html, Mail Code 6102T, 1200 Pennsylvania Avenue, NW., Washington, DC 20460.

FOR FURTHER INFORMATION CONTACT: Eleanor Thornton-Jones, Radiation Protection Division, Center for the Waste Management, Office of Radiation and Indoor Air, Mail Code: 6608J; Environmental Protection Agency, 1200 Pennsylvania Ave., NW., Washington, DC 20460; telephone number: (202) 343-9773; fax number: (202) 343-2306; email address: thornton.eleanord@epa.gov.

SUPPLEMENTARY INFORMATION: EPA has established a public docket for this ICR under Docket ID number OAR-2005-0017, which is available for public viewing at the Air Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entities: Entities affected by this action are those which own or operate Department of Energy (DOE) facilities, elemental phosphorus plants, Non-DOE federal facilities and phosphogypsum stacks, underground uranium mines and uranium mill tailings piles.

Title: National Emission Standards for Hazardous Air Pollutants: Radionuclides, OMB No. 2060-0191, expiring 8/25/05.

Abstract: On December 15, 1989 pursuant to section 112 of the Clean Air Act as amended in 1977 (42 U.S.C. 1857), EPA promulgated NESHAPs to control radionuclide emissions from several source categories. The regulations were published in 54 FR 51653, and are codified at 40 CFR part 61, subparts B, H, I, K, R, T, and W. Information is being collected pursuant to Federal regulation 40 CFR 61. The pertinent sections of the regulation for reporting and record keeping are listed below for each source category:

Department of Energy Facilities—Sections 61.93, 61.94, 61.95

Elemental Phosphorous—Sections 61.123, 61.124, 61.126

Non-DOE Federal Facilities—Sections 61.103, 61.104, 61.105, 61.107

Phosphogypsum Stacks—Sections 61.203, 61.206, 61.207, 61.208, 61.209

Underground Uranium Mines—Sections 61.24, 61.25

Uranium Mill Tailings Piles—Sections 61.223, 61.224, 61.253, 61.254, 61.255

Data and information collected is used by EPA to ensure that public health continues to be protected from the hazards of airborne radionuclides by compliance with NESHAPs. If the information were not collected, it is unlikely that potential violations of the standards would be identified and corrective action would be initiated to bring the facilities back into compliance. Compliance is demonstrated through emission testing and/or dose calculation. Results are submitted to EPA annually for verification of compliance and maintained for a period of 5 years. An agency may not conduct or sponsor, and a person is not required to respond to a collection of information unless it displays a currently valid OMB control number. The OMB control numbers for EPA's regulations are listed in 40 CFR part 9, and 48 CFR Chapter 15.

The EPA would like to solicit comments to:

(i) Evaluate whether the proposed collection of information is necessary for the proper performance of the functions of the agency, including whether the information will have practical utility;

(ii) Evaluate the accuracy of the agency's estimate of the burden of the proposed collection of information;

(iii) Enhance the quality, utility, and clarity of the information to be collected; and

(iv) Minimize the burden of the collection of information on those who are to respond, including through the use of appropriate automated collection techniques or other forms of information technology, e.g., permitting electronic submission of responses.

Burden Statement: The estimated burden for each respondent is 32 hours per response. This estimate is based on experience gained in preparing radionuclide NESHAPs enforcement and compliance guidance material and in demonstrating the use of EPA's COMPLY computer program to the uninitiated.

Respondent | Number of facilities
Department of Energy | 42
Elemental Phosphorus | 2
Non-DOE not licensed by NRC | 20
Phosphogypsum Stacks | 35
Underground Uranium Mines | 7
Uranium Mill Tailings Piles | 13
(Subparts T and W)
Total | 124

It is estimated that 124 facilities would be required to report emissions and/or effective dose equivalent annually and retain supporting records for five years. The total record keeping and reporting burden hours is 288 hours times 124 respondents = 35,712 hours. The estimated annualized capital/start up costs are: $45,000 and the annual operation and maintenance costs are $1,581,120.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: February 8, 2005.
Bonnie C. Gitlin,
Acting Director, Radiation Protection Division, Office of Radiation and Indoor Air.

[FR Doc. 05-2894 Filed 2-14-05; 8:45 am]

BILLING CODE 6560-50-P